DEPARTMENT OF ENERGY

Federal Energy Regulatory Commission

[Docket Nos. IC10-580-000, IN79-6)

Commission Information Collection Activities, Proposed Collection (FERC-580); Comment Request

December 4, 2009.

AGENCY: Federal Energy Regulatory Commission.

ACTION: Notice of proposed information collection and request for comments.

SUMMARY: In compliance with the requirements of Section 3506(c)(2)(A) of the Paperwork Reduction Act of 1995, 44 U.S.C. 3506(c)(2)(A) (2006), the Federal Energy Regulatory Commission (FERC or Commission) is soliciting public comment on the proposed information collection described below.

DATES: Comments on the proposed collection of information are due 60 days after publication in the Federal Register.

ADDRESSES: Comments may be filed either electronically (eFiled) or in paper format, and should refer to Docket No. IC10-580-000. Documents must be prepared in an acceptable filing format and in compliance with Commission submission guidelines at http://www.ferc.gov/help/submission-guide.asp.

Comments may be eFiled. The eFiling option under the Documents & Filings tab on the Commission's home Web page directs users to the eFiling Web page. First time users will have to follow the eRegister instructions on the eFiling Web page: http://www.ferc.gov/docs-filing/eregistration.asp, to establish a user name and password before eFiling. The Commission will send an automatic acknowledgement to the sender's e-mail address upon receipt of comments through eFiling.

Commenters filing electronically should not make a paper filing. Commenters that are not able to file electronically must send an original and two (2) paper copies of the comments to: Federal Energy Regulatory Commission, Secretary of the Commission, 888 First Street, NE., Washington, DC 20426.

Users interested in receiving automatic notification of activity in this docket may do so through eSubscription at http://www.ferc.gov/docs-filing/esubscription.asp). In addition, all comments and FERC issuances may be viewed, printed and downloaded remotely through the Commission's website using the “eLibrary” link and searching on Docket Number IC10-580. For user assistance, contact FERC Online Support, e-mail at ferconlinesupport@ferc.gov, or call toll-free at (866) 208-3676, or for TTY, contact (202) 502-8659).

FOR FURTHER INFORMATION: Michael Miller may be reached by telephone at (202) 502-8415, by fax at (202) 273-0873, and by e-mail at michael.miller@ferc.gov.

SUPPLEMENTARY INFORMATION: The Public Utility Regulatory Policies Act (PURPA), enacted November 8, 1978, amended the Federal Power Act (the Act) and directed the Commission to make comprehensive biennial reviews of certain matters related to automatic adjustment clauses in wholesale rate schedules used by public utilities subject to the Commission's jurisdiction. Specifically, the Commission is required to examine whether the clauses effectively provide the incentives for efficient use of resources and also whether the clauses reflect only those costs that are either “subject to periodic fluctuations” or “not susceptible to precise determinations” in rate cases prior to the time the costs are incurred. The Commission is also required to review the practices of each public utility under automatic adjustment clauses “to insure efficient use of resources under such clauses.” ¹ In response to the PURPA directive, the Commission (in Docket No. IN79-6) established an investigation and began in 1982, to collect every other year, the FERC-580 “Interrogatory on Fuel and Energy Purchase Practices.” (OMB No. 1902-0137).

¹ The review requirement is set forth in two paragraphs of Section 208 of PURPA, 49 Stat.851; 16 U.S.C. 824d

In conjunction with the Paperwork Reduction Act information collection three-year renewal cycle (as administered by the Office of Management and Budget (OMB)), the Commission proposes to modify the questions in the interrogatory. There are several proposed changes to this reporting cycle and we seek comment on those changes. First, as it has been several years since the Commission collected information on automatic adjustment clauses other than fuel-adjustment clauses, therefore we propose in this cycle, to include questions necessary to collect basic information identifying automatic adjustment clauses of all types, through which costs have been flowed, during the current reporting period. Second, the Commission proposes to expand previous interrogatory questions regarding fuel procurement practices and adjustment clause treatment of purchased power to elicit more complete information and eliminate the need for follow-up questions.

To accomplish these changes, the Commission proposes to redesign the FERC-580 in order to eliminate the need for confidential treatment requests. The Commission proposes to remove all of the transportation contract questions, the request for copies of fuel-related audits, as well as the request for information regarding supplier identification, fuel shipped for others, and liability. This information is not currently needed for a Commission investigation.

In addition, the Commission has redesigned the FERC-580 so that the information may be collected electronically through a FERC-designed, easy-to-complete, fillable form that will include such user-friendly features such as pre-populated fields and dropdown menus. The program will automatically generate additional rows when needed, and will connect identification information (e.g. contract numbers and docket numbers) with their proper corresponding detail information to eliminate multiple entries of duplicative information. In subsequent cycles, respondents will be able to retrieve information for filings previously entered, thereby reducing the filing burden. These modifications should facilitate greater ease to the respondent in both submission and access to the information.

A copy of the interrogatory, desk reference, and glossary are attached and part of this document, but they are not included in the Federal Register. They are available from the FERC's eLibrary (http://www.ferc.gov/docs-filing/elibrary.asp) by searching Docket No. IC09-580-000, and through the FERC's Public Reference Room 202-502-8731. Interested parties may also request paper copies of the interrogatory, instructions, and glossary by contacting Michael Miller, by telephone at (202) 502-8415, by fax at (202) 273-0873, or by e-mail at michael.miller@ferc.gov.

In summary, the Commission seeks public comment on, and subsequent OMB approval of the proposed revised information collection (FERC-580, “Interrogatory on Fuel and Energy Purchase Practices”) and the related estimated burden.

Action: The Commission is requesting a three-year extension of the current expiration date for the proposed revised reporting requirements.

Burden Statement: Public reporting burden for this collection is estimated at:

| Number of respondents (1) | Annual number of responses per respondent (2) | Average burden hours per response (3) | Total annual burden hours (1) x (2) x (3)
Respondents with FACs | 45 | 0.5 | ²103 | 2310
Respondents with AACs but no FACs | 125 | 0.5 | 20 | 1250
Respondents with no AACs (no FACs) | 40 | 0.5 | 2 | 40
Total |  |  |  | 3600

The total burden has not changed from previous years. The burden associated with interrogatory responses will vary by utility depending on whether the utility has or does not have an automatic adjustment clause and depending on whether or not those utilities with adjustment clauses allow automatic adjustment of fuel cost. On average, the Commission estimates a cost burden to respondents of $238,628.08. (3,600 hours/2,080 hours ³ per year, times $137,874 ⁴ equals $238,628.08). The cost per respondent is $ $3.393.82 (FAC); $668.16 (AAC) and $59.66 (none).

² Rounded off

³ Number of hours an employee works each year.

⁴ Average annual salary per employee.

The reporting burden includes the total time, effort, and financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise providing the information.

The respondent's cost estimate is based on salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) terms and definitions in the interrogatory and glossary; (3) the accuracy of the agency's burden estimate of the proposed collection of information, including the validity of the methodology and assumptions used; (4) ways to enhance the quality, utility and clarity of the information to be collected; and (5) ways to minimize respondent information collection burden.

Nathaniel J. Davis, Sr.,
Deputy Secretary.

Note: The Attachments (interrogatory, instructions, and glossary) will not be included in the Federal Register. The Attachments are available on the FERC's eLibrary (http://www.ferc.gov/docs-filing/elibrary.asp) by searching Docket No. IC10-580-000, and through the FERC Public Reference Room.

[FR Doc. E9-29666 Filed 12-11-09; 8:45 am]

BILLING CODE 6717-01-P